COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List products and services to be furnished by nonprofit agencies employing persons who are blind or have other severe disabilities, and deletes from the Procurement List products previously furnished by such agencies.

EFFECTIVE DATE: September 29, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On May 24, June 21, June 28, and July 5, 2002, the Committee for Purchase From People Who Are Blind or Severely Disabled published notice (67 FR 36567 42235, 43582, and 44808) of proposed additions to the Procurement List.

The Following Comments Pertain to CD-ROM Replication—Program A890-M

Comments were received from one of the two current contractors for this CD-ROM replication program, in response to a request for sales data. In addition to providing the sales data, the contractor indicated that losing the contract for this replication program would remove the sales volume needed for the company to make a profit. The contractor claimed to have lost the contract for another Government Printing Office (GPO) CD-ROM replication program to the same nonprofit agency under the Committee's program, and raised the possibility of losing a third program the same way. All these impacts, according to the contractor, would combine to cause severe financial impact and job loss for the contractor.

In a follow-up letter, the contractor raised several issues which it contended made this CD-ROM replication program inappropriate for addition to the Committee's program. The contractor contended that the manufacturing process is not suitable for people who are blind or have other severe disabilities and is actually dangerous for such people. The contractor stated that the replication program is designed for multiple contractors, with volume and turnaround demands that make it inappropriate for any one contractor, particularly a small operation like the designated nonprofit agency. The contractor further noted that GPO rules prohibit subcontracting of the manufacturing operation. Finally, the contractor proposed that the nonprofit agency devote its efforts to production of blank CD-R disks for the Government rather than CD-ROM replication programs, as these disks are produced by large multinational companies which would not be as severely affected by losing this work as would the commenting contractor if the CD-ROM replication program at issue were added to the Committee's Procurement List.

In regard to the contractor's impact claims, the contractor was not the current contractor at the time the Committee added the other CD-ROM replication program to the Procurement List. Because the contractor lost the contract to another vendor, it only had a hope of regaining it through the competitive process, and losing this hope is not considered severe adverse impact by the Committee. However, even if the value of the contractor's former contract for the other replication program were to be added to the value of its contract for the replication program at issue in this Procurement List addition, the percentage of the contractor's total sales which the two contracts represent does not reach the level of impact which the Committee normally considers to be severe.

The Committee is not processing the third replication program mentioned by the contractor for addition to the Procurement List at this time. Consequently, the only impact which the Committee's program can take into account in calculating impact on the contractor is that of the A890-M CD-ROM replication program which is being added to the Procurement List by this notice. The sales which the contractor will lose because of this action are well below the level which the Committee normally considers to constitute severe adverse impact on a contractor. The Committee staff, acting through the cognizant central nonprofit agency, has conferred with GPO contracting personnel and the designated nonprofit agency about the issues raised in the contractor's follow-up letter. Both organizations are satisfied that the nonprofit agency can meet the volume and turnaround requirements of this replication program, without resorting to a subcontractor. The nonprofit agency has modified the replication equipment to allow it to be used safely by people with visual impairments, and is successfully using people with visual impairments in all phases of CD-ROM production, order fulfillment, and packaging except disk printing, which it will be able to do safely in-house by January 2003. The equipment which the nonprofit agency has is not suitable for production of blank CD-R disks, so the contractor's alternative proposal would not be feasible.

The Following Material Pertains to All of the Items Being Added to the Procurement List

After consideration of the material presented to it concerning capability of qualified nonprofit agencies to provide the products and services and impact of the additions on the current or most recent contractors, the Committee has determined that the products and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the products and services the Government.

2. The action will result in authorizing small entities to furnish the products and services to the Government.

3. There are no known regulatory alternatives which would accomplish the objectives of the Javits-Wagner-O'Day Act (41 U.S.C. 46-48c) in connection with the products and services proposed for addition to the Procurement List.

Accordingly, the following products and services are added to the Procurement List:

Products

Product/NSN: Battery, Nonrechargeable

6135-00-826-4798 (Remaining Requirement for DSCR).

6135-00-900-2139 (Remaining Requirement for DSCR).

NPA: Eastern Carolina Vocational Center, Inc., Greenville, North Carolina.

Contract Activity: Defense Supply Center Richmond, Richmond, Virginia

Product/NSN: Battery, Nonrechargeable

6135-00-985-7845 (Total Requirement for DSCR).

NPA: Eastern Carolina Vocational Center, Inc., Greenville, North Carolina.

Contract Activity: Defense Supply Center Richmond, Richmond, Virginia.

Product/NSN: Board, Assembly, Jack, Ground

2510-00-741-7585.

NPA: Pennyroyal Regional MH-MR Board, Inc., Hopkinsville, Kentucky.

Contract Activity: Defense Supply Center Columbus, Columbus, Ohio.

Product/NSN: Pen, Vista Gel

7520-00-NIB-0614 (Blue Medium Point).

7520-00-NIB-0615 (Black Medium Point).

NPA: Industries of the Blind, Inc., Greensboro, North Carolina.

Contract Activity: Office Supplies & Paper Products Acquisition Center, New York, NY.

Product/NSN: Pen, Refill, Vista Gel

7510-00-NIB-1588 (Blue Medium Point).

7510-00-NIB-1589 (Black Medium Point).

NPA: Industries of the Blind, Inc., Greensboro, North Carolina.

Contract Activity: Office Supplies & Paper Products Acquisition Center, New York, NY.

Product/NSN: USMC Individual First Aid Kit

6545-00-NSH-2001 (Complete Kit).

6545-00-NSH-2002 (Roll Insert).

6545-00-NSH-2003 (CD Holder).

NPA: Chautauqua County Chapter, NYSARC, Jamestown, New York.

Contract Activity: U.S. Marine Corps, Quantico, Virginia.

Services

Service Type/Location: CD-ROM Replication—Program A890-M

Government Printing Office, Washington, DC.

NPA: Association for the Blind & Visually Impaired & Goodwill Industries of Greater Rochester, Rochester, New York.

Contract Activity: Government Printing Office, Washington, DC.

Service Type/Location: Janitorial/Custodial

Naval Air Station, Buildings 180 and 349.

Whidbey Island.

Oak Harbor, Washington.

NPA: New Leaf, Inc., Oak Harbor, Washington.

Contract Activity: Naval Facilities Engineering Command, Oak Harbor, Washington.

Deletions

I certify that the following action will not have a significant impact on a substantial number of small entities. The major factors considered for this certification were:

1. The action may not result in any additional reporting, recordkeeping or other compliance requirements for small entities.

2. The action may result in authorizing small entities to furnish the products to Government.

3. There are no known regulatory alternatives which would accomplish the objectives of the Javits-Wagner-O'Day Act(41 U.S.C. 46-48c) in connection with the products deleted from the Procurement List.

After consideration of the relevant matter presented, the committee has determined that the products listed below are no longer suitable for procurement by the Federal Government under 41 U.S.C. 46-48c and 41 CFR 51-2.4.

Accordingly, the following products are hereby deleted from the Procurement List:

Products

Product/NSN: Strainer/M.R. 818.

Product/NSN: Strainer and Pastry Brush/M.R. 817.

Product/NSN: Strainer and Pastry Brush/M.R. 829.

NPA: Alabama Industries for the Blind, Talladega, Alabama.

Product/NSN: Bowl, Deodorizer/M.R. 503.

Product/NSN: Bowl, Deodorizer/M.R. 504.

NPA: Tampa Lighthouse for the Blind, Tampa, Florida.

Product/NSN: Cutlery, Heavy Duty/M.R. 597.

NPA: Ho'opono Workshop for the Blind, Honolulu, Hawaii.

NPA: MidWest Enterprises for the Blind, Inc., Kalamazoo, Michigan.

NPA: L.C. Industries For The Blind, Inc., Durham, North Carolina.

NPA: The Lighthouse for the Blind, Inc., Seattle, Washington.

NPA: Industries for the Blind, Inc., Milwaukee, Wisconsin.

Product/NSN: Potpourri/M.R. 404.

NPA: Envision, Inc., Wichita, Kansas.

Product/NSN: Broom, Corn/M.R. 960.

Product/NSN: Mop, Deck/M.R. 961.

Product/NSN: Refill, Mop, Dust/M.R. 985.

NPA: Mississippi Industries for the Blind, Jackson, Mississippi

Product/NSN: Air Deodorizer, Push-Up, Floral Spring/M.R. 506.

Product/NSN: Air Deodorizer, Push-up, Lemon/M.R. 507.

NPA: Lighthouse for the Blind, St. Louis, Missouri.

Product/NSN: Aqua Plunger Mop/M.R. 1026.

NPA: ISIGHT, Inc., Las Vegas, Nevada.

NPA: L.C. Industries For The Blind, Inc., Durham, North Carolina.

Product/NSN: Brush, Duster/M.R. 913.

Product/NSN: Gloves, Latex/M.R. 516.

Product/NSN: Gloves, Latex/M.R. 517.

Product/NSN: Gloves, Latex/M.R. 518.

NPA: New York City Industries for the Blind, Brooklyn, New York.

Product/NSN: Mop, Sponge, Block/M.R. 990.

Product/NSN: Sac Saver/M.R. 1010.

NPA: L.C. Industries For The Blind, Inc., Durham, North Carolina.

Product/NSN: Broom, Mixed Fiber/M.R. 901.

Product/NSN: Fabric Softener Sheets, Reusable/M.R. 519.

Product/NSN: Refill, Mop, Dust/M.R. 985.

NPA: Industries of the Blind, Inc., Greensboro, North Carolina.

Product/NSN: Apron, Child, Painted Design/M.R. 780.

NPA: Lions Industries for the Blind, Inc., Kinston, North Carolina.

Product/NSN: Character Lunch Bags/M.R. 402.

Product/NSN: Master Baster/M.R. 802.

Product/NSN: Soap Shipper/M.R. 431.

NPA: Winston-Salem Industries for the Blind, Winston-Salem, North Carolina.

Product/NSN: Kitchen, Utensils/M.R. 848.

NPA: Cincinnati Association for the Blind, Cincinnati, Ohio.

Product/NSN: Bag, Canvas/M.R. 701

NPA: Lions Volunteer Blind Industries, Inc., Morristown, Tennessee.

Product/NSN: Clothspin, Plastic/M.R. 570.

NPA: Dallas Lighthouse for the Blind, Inc., Dallas, Texas.

Product/NSN: Cleaner, All Purpose/M.R. 510.

NPA: The Lighthouse of Houston, Houston, Texas.

Product/NSN: Cover, Ironing Board/M.R. 965.

Product/NSN: Pad, Microwave/M.R. 562.

Product/NSN: Pad, Replacement, Handle Scrubber/M.R. 540.

Product/NSN: Pad, Replacement, Handle Scrubber/M.R. 545.

Product/NSN: Pad, Replacement, Handle Scrubber/M.R. 546.

Product/NSN: Pad, Scouring/M.R. 547.

Product/NSN: Scrubber/M.R. 542.

NPA: Beacon Lighthouse, Inc., Wichita Falls, Texas.

Product/NSN: Broom, Upright/M.R. 951.

Product/NSN: Broom, Whisk/M.R. 910.

Product/NSN: Brush, Duster/M.R. 913.

Product/NSN: Executive Twist Pen Shipper/M.R. 009.

NPA: Industries for the Blind, Inc., Milwaukee, Wisconsin.

Product/NSN: Dog Bones/M.R. 405.

Product/NSN: Dog Bones/M.R. 406.

Product/NSN: Dog Bones/M.R. 407.

Product/NSN: Dog Bones/M.R. 408.

Product/NSN: Dog Bones/M.R. 409.

Product/NSN: Dog Bones/M.R. 410.

Product/NSN: Dog Bones/M.R. 411.

NPA: Wiscraft Inc.—Wisconsin Enterprises for the Blind, Milwaukee, Wisconsin.

Product/NSN: Brush, Bottle/M.R. 956.

Product/NSN: Brush, Pastry and Basting/M.R. 959.

Product/NSN: Cover, Ironing Board/M.R. 964.

Product/NSN: Handle, Mop, Spring Lever/M.R. 920.

Product/NSN: Kitchen, Utensils/M.R. 828.

Product/NSN: Kitchen, Utensils/M.R. 850.

Product/NSN: Kitchen, Utensils/M.R. 860.

Product/NSN: Kitchen, Utensils/M.R. 862.

NPA: None currently authorized.

Contract Activity: Defense Commissary Agency (DeCA), Ft. Lee, Virginia, for all the Military Resale Products.

G. John Heyer,
General Counsel.

[FR Doc. 02-22213 Filed 8-29-02; 8:45 am]

BILLING CODE 6353-01-P